DEPARTMENT OF AGRICULTURE

Tribal Advisory Committee

AGENCY: Office of Tribal Relations, USDA.

ACTION: Notice of public, hybrid meeting.

SUMMARY: Notice is hereby given, pursuant to the provisions of the rules and regulations of the US Department of Agriculture (USDA) and the Federal Advisory Committee Act (FACA), the Office of Tribal Relations is announcing a meeting of the Tribal Advisory Committee. The committee is authorized under the Agriculture Improvement Act of 2018 (the 2018 Farm Bill) and operates in compliance with the Federal Advisory Committee Act. The purpose of the committee is to provide advice and guidance to USDA on matters related to Tribal and Indian affairs.

DATES: An in-person meeting with a virtual webinar with a call-in option will be held on Wednesday, May 29, 2024, from 9:00 a.m. to approximately 5:00 p.m. Eastern Time (ET), as well as Thursday, May 30, 2024, from 9:00 a.m. to approximately 12: 00 p.m. ET. The meeting will be held in the Lincoln Room of the USDA Whitten Building; 1400 Jefferson Avenue SW, Washington, DC 20250. Because this meeting will be hosted in a secured facility, members of the public wishing to attend in-person must register in advance.

Webinar Participation Information: Registration to attend this meeting, including to provide oral public comments, is available at https://www.zoomgov.com/webinar/register/WN_KUUOcnuqSLGM0Ly7QVjKTQ.

Public Comments: The public may file written comments to the Tribal Advisory Committee by May 13, 2024, via email at Tribal.Relations@usda.gov. While other comments will be included in the public record for this meeting, the Committee may not have time to deliberate on comments received at this date during this meeting.

Register for the Meeting: Because this meeting is hosted in a public facility, registration for in-person attendance will be required by Wednesday, May 22, 2024. Your pre-registration must state: the names of each person in your group; organization or interest represented; the number of people planning to give oral comments, if any; and whether anyone in your group requires special accommodations. Please submit registrations for in-person attendance to https://forms.office.com/g/YECzJvSTcr by May 22, 2024. Registration for virtual attendance must be submitted at https://www.zoomgov.com/webinar/register/WN_KUUOcnuqSLGM0Ly7QVjKTQ by May 22, 2024.

FOR FURTHER INFORMATION CONTACT: General information about the committee can also be found at https://www.usda.gov/tribalrelations/advisory-committee. Josiah Griffin, Designated Federal Officer, by phone at 202-689-4861 or via email at Josiah.Griffin@usda.gov.

Individuals who use telecommunication devices for the deaf (TDD) may call the Federal Information Relay Service (FIRS) at 1-800-877-8339 between 8:00 a.m. and 8:00 p.m., Eastern Standard Time, Monday through Friday.

SUPPLEMENTARY INFORMATION: This meeting will be the second convening of the Tribal Advisory Committee. An agenda and more information for this meeting will be available at https://www.usda.gov/tribalrelations/advisory-committee.

The Secretary establishes the Committee pursuant to section 12303 of the Agriculture Improvement Act of 2018 (7 U.S.C. 6921(b)) and will be managed in accordance with the provisions of the Federal Advisory Committee Act (FACA), as amended, 5 U.S.C. 10. Under the law, the Secretary of Agriculture appointed three members, and the Chair and Ranking Members of the House Committee on Agriculture and the Senate Committees on Indian Affairs and Agriculture, Nutrition, and Forestry appointed the remaining eight members. In addition to providing recommendations to the Secretary, the Tribal Advisory Committee is required to provide a report to the three Congressional Committees listed above.

Register for the Meeting: Because this meeting is hosted in a secured public facility, registration for in-person attendance will be required by Wednesday, May 22, 2024. Your pre-registration must state: the names of each person in your group; organization or interest represented; the number of people planning to give oral comments, if any; and whether anyone in your group requires special accommodations. Please submit registrations for in-person attendance to https://forms.office.com/g/YECzJvSTcr by May 22, 2024. Registration for virtual attendance must be submitted at https://www.zoomgov.com/webinar/register/WN_KUUOcnuqSLGM0Ly7QVjKTQ by May 22, 2024.

Public Comment: Members of the public are invited to join the Tribal Advisory Committee meeting in listen only mode each day and will be invited to give oral comments to the Committee from 3:00 p.m. ET to 4:00 p.m. ET on Wednesday, May 29, 2024. Members of the public who request to give oral comments to the Committee, must arrive by 3:00P.M. Eastern Time (ET) on May 29, 2024, and will be given no more than five (5) minutes to provide oral comment.

Availability of Materials for the Meeting: All written public comments will be compiled into a binder and available for review at the meeting. Duplicate comments from multiple individuals will appear as one comment, with a notation that multiple copies of the comment were received. Please visit https://www.usda.gov/tribalrelations/advisory-committee to learn more about the agenda for or reports resulting from this meeting. Please be advised that anyone calling into the Zoom teleconference system or participating in-person that is interested in providing public comment will be asked to provide their names, their title, and their tribal or organizational affiliations. Callers can expect to incur charges for calls they initiate over wireless lines, and the USDA will not refund any incurred charges.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

Equal opportunity practices in accordance with USDA's policies will be followed in all appointments to the Committee. To ensure that the recommendations of the Committee have taken in account the needs of the diverse groups served by USDA, membership shall include to the extent possible, individuals with demonstrated ability to represent minorities, women and person with disabilities. USDA is an equal opportunity provider, employer, and lender.

Dated: April 22, 2024.
Cikena Reid,
USDA Committee Management Officer.

[FR Doc. 2024-09465 Filed 5-1-24; 8:45 am]

BILLING CODE 3420-AG-P